DEPARTMENT OF JUSTICE

Notice of Lodging of Consent Decree Pursuant to the Comprehensive Environmental Response, Compensation, and Liability Act

Notice is hereby given that on May 13, 2005, a proposed Consent decree (the “Decree”) in United States v. University of Nebraska, case no. 8:30CV00038, was lodged with the United States District Court for the District of Nebraska.

In this settlement the United States resolves claims of the Environmental Protection Agency and the Army Corps of Engineers for cost recovery for certain costs incurred and to be incurred remediating environmental contamination at the Former Nebraska Ordnance Plant Superfund Site in Mead, Nebraska. The University of Nebraska (“University”) has been identified as a responsible party under the Comprehensive Environmental Response, Compensation and Liability Act (“CERCLA”) in connection with this Site. The Consent Decree provides that the United States will receive a cash payment of $71,939 and that the University will impose specific restrictions on use of the property in settlement of the above-described claims. The Consent Decree provides that the University remains potentially liable for future remediation and response costs determined to be necessary because of the University's activities at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. University of Nebraska, Case No. 8:03CV00038, District Court for District of Nebraska, D.J. Ref. #90-11-2-07548/1.

The Consent Decree may be examined at the Office of the United States Attorney, First National Bank Building, 1620 Dodge Street, Suite 1400, Omaha, Nebraska, 68102, and at U.S. EPA Region 7, 901 N. 5th Street, Kansas City, Kansas, 66101 and at the U.S. Army Corps of Engineers, Office of District Counsel, 700 Federal Building, 601 E. 12th Street, Kansas City, MO 64106-2896. During the public comment period, the Consent Decree may also be examined on the following Justice Department Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.75 (25 cents per page reproduction cost) payable to the U.S. Treasury.

Robert E. Maher, Jr.,
Assistant Chief, Environmental Enforcement Section, Environment and Natural Resources Division.

[FR Doc. 05-11008 Filed 6-2-05; 8:45 am]

BILLING CODE 4410-15-M